DEPARTMENT OF DEFENSE

Defense Acquisition Regulations System

[Docket Number DARS-2019-0019; OMB Control Number 0750-0001]

Information Collection Requirement; Defense Federal Acquisition Regulation Supplement (DFARS); Performance-Based Payments—Representation; Submission for OMB Review; Comment Request

AGENCY: Defense Acquisition Regulations System, Department of Defense (DoD).

ACTION: Notice.

SUMMARY: The Defense Acquisition Regulations System has submitted to OMB for clearance, the following proposal for collection of information under the provisions of the Paperwork Reduction Act.

DATES: Consideration will be given to all comments received by March 20, 2020.

SUPPLEMENTARY INFORMATION:

Title, Associated Form, and OMB Number: Defense Federal Acquisition Regulation Supplement (DFARS), Performance-Based Payments—Representation; OMB Control Number 0750-0001.

Affected Public: Businesses or other for-profit and not-for- profit institutions.

Respondent's Obligation: Required to obtain or retain benefits.

Frequency: On occasion.

Type of Request: New submission.

Number of Respondents: 144.

Responses per Respondent: 1.

Annual Responses: 144.

Average Burden per Response: Approximately .1 hours.

Annual Burden Hours: 15.

Needs and Uses: This information collection is a result of a new DFARS requirement to implement section 831 the National Defense Authorization Act (NDAA) for Fiscal Year (FY) 2017, which amends 10 U.S.C. 2307. The rule adds a new provision with a reporting requirement that will require an entry in the annual representations and certifications with regard to whether the offeror's financial statements are in compliance with Generally Accepted Accounting Principles. This provision is for use in solicitations where the resulting contract may include performance-based payments. This representation will be included in the annual representations and certifications in the System for Award Management. (See DFARS Case 2019-D002, proposed rule published at 84 FR 18221 on April 30, 2019.)

Comments and recommendations on the proposed information collection should be sent to Ms. Jasmeet Seehra, DoD Desk Officer, at Oira_submission@omb.eop.gov. Please identify the proposed information collection by DoD Desk Officer and the Docket ID number and title of the information collection

You may also submit comments, identified by docket number and title, by the following method: Federal eRulemaking Portal: http://www.regulations.gov. Follow the instructions for submitting comments.

DoD Clearance Officer: Ms. Angela James. Requests for copies of the information collection proposal should be sent to Ms. James at whs.mc-alex.esd.mbx.dd-dod-information-collections@mail.mil.

Jennifer Lee Hawes,
Regulatory Control Officer, Defense Acquisition Regulations System.

[FR Doc. 2020-03259 Filed 2-18-20; 8:45 am]

BILLING CODE 5001-06-P